DEPARTMENT OF JUSTICE

Notice of Lodging of Consent Decree Under the Comprehensive Environmental Response, Compensation, and Liability Act

Consistent with Section 122 of the Comprehensive Environmental Response, Compensation, and Liability Act of 1980, as amended (“CERCLA”), 42 U.S.C. 9622(d), and 28 CFR 50.7, notice is hereby given that on June 28, 2010, the United States lodged a Partial Consent Decree with El Dorado County, California (the “County”) in United States of America v. El Dorado County, California, et al., Civil No. S-01-1520 MCE GGH (E.D. Cal.), with respect to the Meyers Landfill Site, located in Meyers, El Dorado County, California (the “Site”).

On August 3, 2001, Plaintiff United States of America (“United States”), on behalf of the United States Department of Agriculture, Forest Service (“Forest Service”), filed a complaint in this matter pursuant to Section 107 of the Comprehensive Environmental Response, Compensation, and Liability Act (“CERCLA”), 42 U.S.C. 9607, against Defendants, El Dorado County, California (the “County”) and the City of South Lake Tahoe, California (“the City”). The complaint filed by the United States seeks recovery of environmental response costs, with accrued interest, incurred by the Forest Service related to the release or threatened release and/or disposal of hazardous substances at or from the Meyers Landfill Site, a former municipal waste disposal facility located on National Forest Service System lands administered by the Lake Tahoe Basin Management Unit of the Forest Service, and a declaration of the County's and the City's liability for future response costs incurred by the United States related to the Site. The County filed a counterclaim for contribution against the United States as well as a Third Party Complaint for contribution against a number of third party defendants.

Under the proposed Partial Consent Decree, the County will implement the Operable Unit One (“OU-1”) remedy, which involves consolidating the landfill waste and encasing it under an impervious cap and construction of certain enhanced drainage features around the cap. The County will also pay $1,651,000 to resolve the United States' claim for Past Response Costs (as defined in the proposed Partial Consent Decree) at the Site. In exchange, the County will receive from the United States a covenant not to sue or to take administrative action pursuant to Sections 106 or 107 of CERCLA, 42 U.S.C. 9606 and 9607, for the performance of response actions at OU-1 and for the United States' Past Response Costs and Future Oversight Costs (as defined in the proposed Partial Consent Decree).

In addition, the proposed Partial Consent Decree resolves the County's contribution counterclaims against the United States regarding response costs incurred, or to be incurred, by the County at OU-1, referred to in the proposed Partial Consent Decree as “Settling Defendant Past Response Costs” and “Settling Defendant Future OU-1 Response Costs,” in exchange for a payment of $1,612,349 to the County. The County, in turn, must deposit that amount into a special account to fund implementation of the OU-1 remedy.

The Department of Justice will receive for a period of thirty (30) days from the date of this publication comments relating to the Partial Consent Decree. Comments should be addressed to the Assistant Attorney General, Environment and Natural Resources Division, and either e-mailed to pubcomment-ees.enrd@usdoj.gov or mailed to P.O. Box 7611, U.S. Department of Justice, Washington, DC 20044-7611, and should refer to United States of America v. El Dorado County, California, et al., Civil No. S-01-1520 MCE GGH (E.D. Cal.) (DOJ Ref. No. 90-11-3-06554) (Partial Consent Decree with El Dorado County).

The Partial Consent Decree may be examined at U.S. Department of Agriculture, Office of General Counsel, 33 New Montgomery Street, 17th Floor, San Francisco, CA 94150 (contact Rose Miksovsky, (415) 744-3158). During the public comment period, the Partial Consent Decree may also be examined on the following Department of Justice Web site: http://www.usdoj.gov/enrd/Consent_Decrees.html. A copy of the Partial Consent Decree may also be obtained by mail from the Consent Decree Library, U.S. Department of Justice, P.O. Box 7611, Washington, D.C. 20044-7611 or by faxing or e-mailing a request to Tonia Fleetwood (tonia.fleetwood@usdoj.gov), fax no. (202) 514-0097, phone confirmation number (202) 514-1547. In requesting a copy from the Consent Decree Library, please refer to United States of America v. El Dorado County, California, et al., Civil No. S-01-1520 MCE GGH (E.D. Cal.) (DOJ Ref. No. 90-11-3-06554) (Partial Consent Decree with El Dorado County), and enclose a check in the amount of $66.50 (25 cents per page reproduction cost) payable to the U.S. Treasury or, if by e-mail or fax, forward a check in that amount to the Consent Decree Library at the stated address.

Maureen Katz,
Assistant Section Chief, Environmental Enforcement Section, Environment and Natural Resources Division.

[FR Doc. 2010-16119 Filed 7-1-10; 8:45 am]

BILLING CODE 4410-15-P